SMALL BUSINESS ADMINISTRATION

[Disaster Declaration #14336 and #14337]

Texas Disaster Number TX-00448

AGENCY: U.S. Small Business Administration.

ACTION: Amendment 5.

SUMMARY: This is an amendment of the Presidential declaration of a major disaster for Public Assistance Only for the State of Texas (FEMA-4223-DR), dated 05/29/2015.

Incident: Severe Storms, Tornadoes, Straight Line Winds and Flooding.

Incident Period: 05/04/2015 through 06/22/2015.

Effective Date: 08/04/2015.

Physical Loan Application Deadline Date: 07/28/2015.

Economic Injury (EIDL) Loan Application Deadline Date: 02/29/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of TEXAS, dated 05/29/2015, is hereby amended to include the following areas as adversely affected by the disaster.

Primary Counties: Bosque, Brazoria, Collingsworth, Colorado, Coryell, Duval, Erath, Hall, Hardin, Jim Wells, Lubbock, Mclennan, Palo Pinto, Shelby, Smith, Somervell, Tom Green, Washington, Young.

All other information in the original declaration remains unchanged.

(Catalog of Federal Domestic Assistance Numbers 59002 and 59008)

James E. Rivera,
Associate Administrator for Disaster Assistance.

[FR Doc. 2015-19961 Filed 8-12-15; 8:45 am]

BILLING CODE 8025-01-P